DEPARTMENT OF THE INTERIOR

Dakotas Advisory Council Meeting

AGENCY: Bureau of Land Management, North Dakota Field Office, Interior.

ACTION: Notice of meeting.

SUMMARY: A meeting of the Dakotas Resource Advisory Council will be held May 19 & 20, 2003, at the Clarion Inn, Gillette, Wyoming. The session will include a Coal Bed Methane field tour beginning at 8 a.m. on May 19. The meeting will reconvene on Tuesday at the Clarion Inn. Agenda items will include: Coal Bed Methane.

The meeting is open to the public and a public comment period is set for 8 a.m. on May 20, 2003. The public may make oral statements before the Council or file written statements for the Council to consider. Depending on the number of persons wishing to make an oral statement, a per-person time limit may be established. Summary minutes of the meeting will be available for public inspection and copying.

The 15-member Council advises the Secretary of the Interior, through the Bureau of Land Management, on a variety of planning and management issues associated with public land management in the Dakotas.

FOR FURTHER INFORMATION CONTACT: Douglas Burger, Field Office Manager, North Dakota Field Office, 2933 3rd Ave. W, Dickinson, North Dakota. Telephone 701-227-7700.

Dated: February 14, 2003.
Douglas Burger,
Field Manager.

[FR Doc. 03-4237 Filed 2-21-03; 8:45 am]

BILLING CODE 4310-$$-M